Title 3—

The President

Proclamation 8885 of October 9, 2012

Leif Erikson Day, 2012

By the President of the United States of America

A Proclamation

Leif Erikson—son of Iceland and grandson of Norway—crossed the North Atlantic more than 1,000 years ago to land on the shores of present-day Canada. His arrival marked the first known European encounter with North America and began a legacy of daring exploration that would help define the character of our Nation. Today, we celebrate not only Leif Erikson and Nordic-American culture, but also those men and women who boldly reach for the next great discovery.

More than 800 years after that first excursion, a ship called Restauration set sail in Erikson's wake with the eyes and hearts of its passengers set on American shores. The Norwegians who disembarked in New York City on October 9, 1825, were the first large group of immigrants to arrive in the United States from Norway. On Leif Erikson Day, we commemorate their journey and celebrate the many contributions and accomplishments of their descendants.

Famed adventurers like Leif Erikson still spur our limitless desire to push toward new frontiers and shed light on the unknown. Today, the United States is driving extraordinary innovation in all realms of science and technology, setting out on modern expeditions to research and preserve the Arctic and Antarctic, and even sending robotic explorers to the surface of Mars. As we strive for an ever brighter future, may we continue to be inspired by the rugged determination that motivated our forebears, and may the same spirit of exploration guide our progress in the years to come.

To honor Leif Erikson and celebrate our Nordic-American heritage, the Congress, by joint resolution (Public Law 88-566) approved on September 2, 1964, has authorized the President of the United States to proclaim October 9 of each year as “Leif Erikson Day.”

NOW, THEREFORE, I, BARACK OBAMA, President of the United States of America, do hereby proclaim October 9, 2012, as Leif Erikson Day. I call upon all Americans to observe this day with appropriate ceremonies, activities, and programs to honor our rich Nordic-American heritage.

IN WITNESS WHEREOF, I have hereunto set my hand this ninth day of October, in the year of our Lord two thousand twelve, and of the Independence of the United States of America the two hundred and thirty-seventh.

[FR Doc. 2012-25502

Filed 10-15-12; 8:45 am]

Billing code 3295-F3